Title 3—

The President

Presidential Determination No. 2016-12 of September 27, 2016

Presidential Determination on Foreign Governments' Efforts Regarding Trafficking in Persons

Memorandum for the Secretary of State

Consistent with section 110 of the Trafficking Victims Protection Act of 2000 (the “Act”) (22 U.S.C. 7107), I hereby:

Make the determination provided in section 110(d)(1)(A)(i) of the Act, with respect to Equatorial Guinea, Iran, South Sudan, Sudan, Venezuela, and Zimbabwe not to provide certain non-humanitarian, non-trade-related assistance for those countries' governments for Fiscal Year (FY) 2017, until such governments comply with the minimum standards or make significant efforts to bring themselves into compliance, as may be determined by the Secretary of State in a report to the Congress pursuant to section 110(b) of the Act;

Make the determination provided in section 110(d)(1)(A)(ii) of the Act, with respect to Eritrea, North Korea, Russia, and Syria not to provide non-humanitarian, non-trade-related assistance or to allow funding for participation by officials or employees of those countries' governments in educational and cultural exchange programs for FY 2017, until such governments comply with the minimum standards or make significant efforts to bring themselves into compliance, as may be determined by the Secretary of State in a report to the Congress pursuant to section 110(b) of the Act;

Make the determination provided in section 110(d)(1)(B) of the Act to instruct the United States Executive Director of each multilateral development bank and of the International Monetary Fund to vote against and use best efforts to deny any loan or other utilization of the funds of the respective institution (other than for humanitarian assistance, for trade-related assistance, or for development assistance that directly addresses basic human needs, is not administered by the government of such country, and confers no benefit to that government) to Eritrea, Iran, North Korea, Russia, and Zimbabwe for FY 2017, until such governments comply with the minimum standards or makes significant efforts to bring themselves into compliance;

Determine, consistent with section 110(d)(4) of the Act, with respect to Algeria, Belarus, Belize, Burma, Burundi, the Central African Republic, Comoros, Djibouti, The Gambia, Guinea-Bissau, Haiti, Marshall Islands, Mauritania, Papua New Guinea, Suriname, Turkmenistan, and Uzbekistan that provision to these countries' governments of all programs, projects, or activities described in sections 110(d)(1)(A) and 110(d)(1)(B) of the Act would promote the purposes of the Act or is otherwise in the national interest of the United States;

Determine, consistent with section 110(d)(4) of the Act, with respect to Equatorial Guinea, South Sudan, Sudan, Syria, and Venezuela, that assistance described in section 110(d)(1)(B) of the Act would promote the purposes of the Act or is otherwise in the national interest of the United States;

Determine, consistent with section 110(d)(4) of the Act, with respect to Eritrea, Russia, and Syria, that a partial waiver to allow funding for educational and cultural exchange programs described in section 110(d)(1)(A)(ii) of the Act would promote the purposes of the Act or is otherwise in the national interest of the United States;

Determine, consistent with section 110(d)(4) of the Act, with respect to Equatorial Guinea, that a partial waiver to allow assistance described in section 110(d)(1)(A)(i) of the Act to promote sustainable natural resource management and biodiversity and programs to advance energy access; and support the participation of government employees or officials in young leader exchanges and leadership programs would promote the purposes of the Act or is otherwise in the national interest of the United States;

Determine, consistent with section 110(d)(4) of the Act, with respect to South Sudan, that a partial waiver to allow assistance and programs described in section 110(d)(1)(A)(i) of the Act, with the exception of Foreign Military Financing, Foreign Military Sales, and Excess Defense Articles, would promote the purposes of the Act or is otherwise in the national interest of the United States;

Determine, consistent with section 110(d)(4) of the Act, with respect to South Sudan, that a waiver to allow assistance to be provided pursuant to section 1208 of the National Defense Authorization Act for Fiscal Year 2014 (Public Law 113-66), to the extent that such programs would otherwise be restricted by the Act, would promote the purposes of the Act or is otherwise in the national interest of the United States;

Determine, consistent with section 110(d)(4) of the Act, with respect to Sudan, that a partial waiver to allow assistance and programs described in section 110(d)(1)(A)(i) of the Act, with the exception of Foreign Military Financing, Foreign Military Sales, International Military Education and Training, Peacekeeping Operations, and Excess Defense Articles, would promote the purposes of the Act or is otherwise in the national interest of the United States;

Determine, consistent with section 110(d)(4) of the Act, with respect to Venezuela, that a partial waiver to allow for assistance described in section 110(d)(1)(A)(i) of the Act to strengthen the democratic process in Venezuela and for participation by government officials and employees in foreign assistance-funded programs related to democracy and rule of law would promote the purposes of the Act or is otherwise in the national interest of the United States;

Determine, consistent with section 110(d)(4) of the Act, with respect to Zimbabwe, that a partial waiver to allow for assistance described in section 110(d)(1)(A)(i) of the Act to support programs that provide assistance for victims of trafficking in persons, promote biodiversity and wildlife protection, health, good governance, education, leadership, agriculture and food security, poverty reduction, livelihoods, family planning and reproductive health, macroeconomic growth, that would have a significant adverse effect on vulnerable populations if suspended, and allow for the participation of government employees or officials in young leader exchanges and leadership programs, would promote the purposes of the Act or is otherwise in the national interest of the United States;

And determine, consistent with section 110(d)(4) of the Act, with respect to Zimbabwe, that assistance described in section 110(d)(1)(B) of the Act, which:

(1) is a regional program, project, or activity under which the total benefit to Zimbabwe does not exceed 10 percent of the total value of such program, project, or activity;

(2) has as its primary objective the addressing of basic human needs, as defined by the Department of the Treasury with respect to other, existing legislative mandates concerning U.S. participation in the multilateral development banks;

(3) is complementary to or has similar policy objectives to programs being implemented bilaterally by the United States Government;

(4) has as its primary objective the improvement of Zimbabwe's legal system, including in areas that impact Zimbabwe's ability to investigate and prosecute trafficking cases or otherwise improve implementation of its anti-trafficking policy, regulations, or legislation;

(5) is engaging a government, international organization, or civil society organization, and seeks as its primary objective(s) to: (a) increase efforts to investigate and prosecute trafficking in persons crimes; (b) increase protection for victims of trafficking through better screening, identification, rescue/removal, aftercare (shelter, counseling), training, and reintegration; or (c) expand prevention efforts through education and awareness campaigns highlighting the dangers of trafficking in persons or training and economic empowerment of populations clearly at risk of falling victim to trafficking; or

(6) is targeted macroeconomic assistance from the International Monetary Fund that strengthens the macroeconomic management capacity of Zimbabwe; would promote the purposes of the Act; or is otherwise in the national interest of the United States.

The certification required by section 110(e) of the Act is provided herewith.

You are hereby authorized and directed to submit this determination to the Congress, and to publish it in the Federal Register.

THE WHITE HOUSE,

Washington, September 27, 2016

[FR Doc. 2016-24734

Filed 10-7-16; 11:15 am]

Billing code 4710-10-P